DEPARTMENT OF COMMERCE

National Oceanic and Atmospheric Administration

[RTID 0648-XD309]

Mid-Atlantic Fishery Management Council (MAFMC); Public Meeting

AGENCY: National Marine Fisheries Service (NMFS), National Oceanic and Atmospheric Administration (NOAA), Commerce.

ACTION: Notice; public meeting.

SUMMARY: The MAFMC will hold a public joint meeting (webinar) of its Mackerel, Squid, and Butterfish (MSB) Committee and Advisory Panel to develop recommendations on preferred alternatives in a framework adjustment to the MSB Fishery Management Plan that could implement a volumetric vessel hold baseline requirement and vessel hold upgrade restriction for Illex limited access permits.

DATES: The meeting will be held on Monday, September 18, 2023, from 10:30 a.m. to 1 p.m.

ADDRESSES: Webinar connection information will be posted to the calendar prior to the meeting at www.mafmc.org.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: In September 2022, NOAA Fisheries disapproved an Amendment to the MSB fishery management plan that would have reduced directed limited access permits to address excess capacity in the Illex fishery. The Council subsequently voted to initiate and develop a framework action to consider a volumetric vessel hold baseline requirement and upgrade restriction for all Illex limited access permits. This action is intended to control future increases in capacity. There are also alternatives to require a non-binding processing-type intent declaration (fresh, frozen, refrigerated sea water, etc.) when renewing limited access squid permits. The Council is planning on taking final action at its October 2023 Council meeting, so the Committee will develop recommendations on preferred alternatives.

Special Accommodations

The meeting is physically accessible to people with disabilities. Requests for sign language interpretation or other auxiliary aid should be directed to Shelley Spedden, (302) 526-5251, at least 5 days prior to the meeting date.

Authority: 16 U.S.C. 1801 et seq.

Dated: August 29, 2023.
Rey Israel Marquez,
Acting Deputy Director, Office of Sustainable Fisheries, National Marine Fisheries Service.

[FR Doc. 2023-18985 Filed 8-31-23; 8:45 am]

BILLING CODE 3510-22-P